Proclamation 10094 of October 3, 2020

Child Health Day, 2020

By the President of the United States of America

A Proclamation

Children are one of life's greatest blessings. They bring boundless joy to families and enrich our communities. On Child Health Day, we are reminded of our solemn obligation to love and protect these precious lives, and we recommit to helping America's youth reach their full potential.

Our Nation is home to the greatest doctors and medical professionals in the world, and yet, the health of too many American children is compromised at the earliest stages of life. To end this tragedy, my Administration is taking action to empower doctors and families so that children thrive at every stage of development. To reduce the rate of infant death, we have invested more than $100 million in the Healthy Start initiative, which particularly targets minority communities. We have also updated and improved clinical guidelines that healthcare professionals use for prenatal checkups, leading to safer births and healthier babies. As President, and as a father and grandfather, I will continue to work to ensure that every American family has the ability to raise healthy children, regardless of their income, education, or racial or ethnic background.

It is also vitally important to safeguard the mental, spiritual, and physical health of our children as they grow up. To this end, the First Lady launched her BE BEST initiative in 2018, an effort that has promoted whole-of-person wellness for children since its inception. BE BEST encourages character development and respect for others and provides education, awareness, and coping skills to help youth navigate issues they may face, including online safety and opioid and drug misuse. The positive habits encouraged by the BE BEST program have and will continue to develop future leaders, strengthening our Nation and affecting positive change in communities throughout the United States.

This year, we also celebrate 10 years of success in the Maternal, Infant, and Early Childhood Home Visiting (MIECHV) program, which helps prevent child neglect and provides families with the tools they need to raise children who are physically, socially, and emotionally healthy. The First Lady and I recognize the importance of creating a healthy environment in which to raise a child, and my Administration will always support children in need.

In recent months, we have also seen the effects of the coronavirus on the health of our Nation's children. While children are at a very low risk from the coronavirus itself, lockdowns and school closures pose significant risks to the health and wellbeing of our young people. My Administration recognizes that extended school closures cause students to fall behind academically and can have devastating effects on the long-term prospects for school-aged children. Many children, especially those from low-income and minority communities, rely on schools for resources that they do not have access to when schools are closed. Schools provide meals, counseling, physical activity, social interaction, and other experiences that play a crucial role in the development of our young people. For these reasons, lockdowns and school closures can often pose a greater risk to children than the coronavirus, and we must take action to both empower parents and students to take control of their education and equip teachers to best ensure the wellbeing of their students.

In recognition of the vital role schools play in the health of our Nation's children, my Administration has taken aggressive action to help our schools open safely. The bipartisan Coronavirus Aid, Relief, and Economic Security Act, which I signed into law in March, designates $750 million—in addition to the $10.6 billion already appropriated—in funding to the Head Start and Early Head Start programs, which help prepare low-income children for kindergarten. Furthermore, we have provided school districts with $25 billion for personal protective equipment and other resources to lower the risk of the spread of coronavirus, and I have called on the Congress to provide an additional $105 billion toward this effort. We have also provided every State with revolutionary point-of-care tests that deliver results in under 15 minutes. In preparation for the imminent delivery of a safe, effective coronavirus vaccine, last month I also directed the Department of Health and Human Services to issue guidance under the Public Readiness and Emergency Preparedness Act which allows State-licensed pharmacy professionals to administer vaccines to individuals ages three and older. This action will greatly expand vaccine access, especially among children, and will expedite our ongoing recovery effort. As one Nation, we will continue our push to safely reopen while also protecting the most vulnerable among us.

Our Nation's children are the hope and promise of our future. Parents, educators, clergy members, mentors, and community volunteers all influence and shape the lives of young people. On this Child Health Day, let us renew our commitment to the vital role we all share in raising, nurturing, protecting, empowering, and encouraging America's youth so that they may enjoy healthy, happy, and fulfilled lives.

The Congress, by a joint resolution approved May 18, 1928, as amended (36 U.S.C. 105), has called for the designation of the first Monday in October as Child Health Day and has requested that the President issue a proclamation in observance of this day.

NOW, THEREFORE, I, DONALD J. TRUMP, President of the United States of America, by virtue of the authority vested in me by the Constitution and the laws of the United States, do hereby proclaim Monday, October 5, 2020, as Child Health Day. I call upon families, child health professionals, faith-based and community organizations, and governments to help ensure that America's children stay safe and healthy.

IN WITNESS WHEREOF, I have hereunto set my hand this third day of October, in the year of our Lord two thousand twenty, and of the Independence of the United States of America the two hundred and forty-fifth.

[FR Doc. 2020-22507

Filed 10-7-20; 11:15 am]

Billing code 3295-F1-P